ENVIRONMENTAL PROTECTION AGENCY

40 CFR Part 180

[EPA-HQ-OPP-2010-0703; FRL-9325-3]

Withdrawal of a Pesticide Petition for Residues of Pesticide Chemicals in or on Various Commodities

AGENCY: Environmental Protection Agency (EPA).

ACTION: Notice of withdrawal of a pesticide petition.

SUMMARY: This document announces the withdrawal of a pesticide petition requesting the establishment or modification of regulations for residues of pesticide chemicals in or on various commodities. The petition was either withdrawn voluntarily by the petitioner or administratively by the Agency.

FOR FURTHER INFORMATION CONTACT: Deirdre Sunderland, Registration Division (7505P), Environmental Protection Agency, 1200 Pennsylvania Ave. NW., Washington, DC 20460-0001; telephone number: (703) 603-0851; fax number: (703) 305-0599; email address: sunderland.deirdre@epa.gov.

SUPPLEMENTARY INFORMATION:

I. General Information

A. Does this action apply to me?

Although this action only applies to the registrant in question, it is directed to the public in general. Since various individuals or entities may be interested, the Agency has not attempted to describe all the specific entities that may be interested in this action. If you have any questions regarding this action, please consult the person listed under FOR FURTHER INFORMATION CONTACT.

B. How can I get copies of this document and other related information?

EPA has established a docket for this action under docket identification (ID) number EPA-HQ-OPP-2010-0703. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

EPA is announcing the withdrawal of a pesticide petition received under section 408 of the Federal Food, Drug, and Cosmetic Act (FFDCA), 21 U.S.C. 346a, requesting the establishment or modification of regulations in 40 CFR part 174 or part 180 for residues of pesticide chemicals in or on various food commodities.

Pursuant to 40 CFR 180.7(f), a summary of the petition covered by this document, prepared by the petitioner, was included in a docket EPA created for each rulemaking. The docket for the petition is available on-line at http://www.regulations.gov.

EPA issued a notice in the Federal Register of September 23, 2010 (75 FR 57942) (FRL-8845-4), which announced the submission of a pesticide petition (PP 0E7727) by Interregional Research Project Number 4 (IR-4), on behalf of Koppert Biological Systems, Inc., 28465 Beverly Rd., Romulus, MI 48174. The petition proposed to amend 40 CFR 180.920 by establishing an exemption from the requirement of a tolerance for residues of lactoperoxidase (CAS No. 9003-99-0) in or on all raw agricultural commodities when used pre-harvest as a pesticide inert ingredient in pesticide formulations of the active ingredients potassium iodide and potassium thiocyanate. On September 9, 2011, IR-4, on behalf of Koppert Biological Systems, Inc., notified EPA that it was withdrawing this petition.

List of Subjects in 40 CFR Part 180

Environmental protection, Agricultural commodities, Feed additives, Food additives, Pesticides and pests, Reporting and recordkeeping requirements.

Dated: October 24, 2011.
Lois Rossi,
Director, Registration Division, Office of Pesticide Programs.

[FR Doc. 2011-28934 Filed 11-8-11; 8:45 am]

BILLING CODE 6560-50-P